DEPARTMENT OF THE INTERIOR

National Park Service

[NPS-WASO-NAGPRA-NPS0026100; PPWOCRADN0-PCU00RP14.R50000]

Notice of Inventory Completion: Federal Bureau of Investigation, Washington, DC

AGENCY: National Park Service, Interior.

ACTION: Notice.

SUMMARY: The Federal Bureau of Investigation (FBI) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the FBI. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the FBI at the address in this notice by October 10, 2018.

ADDRESSES: Federal Bureau of Investigation, FBI Headquarters, Attn: Supervisory Special Agent (SSA) Timothy S. Carpenter, Art Theft Program, 935 Pennsylvania Avenue NW, Washington, DC 20535, telephone (202) 324-5525, email artifacts@ic.fbi.gov.

SUPPLEMENTARY INFORMATION: Notice is here given in accordance with the Native American Graves Protection and Repatriation Act (NAGPRA), 25 U.S.C. 3003, of the completion of an inventory of human remains under the control of the Federal Bureau of Investigation, Washington, DC. The human remains were removed from Potter County, SD.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the FBI professional staff in consultation with representatives of Cheyenne River Sioux Tribe of the Cheyenne River Reservation, South Dakota; Standing Rock Sioux Tribe of North & South Dakota; and Three Affiliated Tribes of the Fort Berthold Reservation, North Dakota.

History and Description of the Remains

At an unknown date, human remains representing one individual were removed from or near the Rosa Site (39PO3) in Potter County, SD. The Rosa Site is on the Missouri River midway between the mouth of the Moreau and Cheyenne Rivers. The closest modern town to the Rosa Site is Gettysburg, which serves as the county seat. Archeological records from the Rosa Site, along with oral history from local tribal nations, indicates that this area was historically inhabited by several populations. Archeologists believe that Siouan-speaking people ancestral to the Mandan lived in this locale from at least A.D. 800 until they were displaced by Caddoan-speaking ancestors of the Arikara. Ancestral Arikara remained in the area until the mid-to-late 1800s, when they moved upstream to join the Mandan and Hidatsa as part of the Three Affiliated tribes.

Excavations were conducted by Wesley Hurt and colleagues at Rosa and other middle Missouri River valley sites in advance of the river's damming and the creation of Lake Oahe by the Army Corps of Engineers in the 1960s. In 1958, Wesley Hurt and Todd Willy produced a report on their salvage excavation at the site. (Report of the Investigation of the Rosa Site 39Po3, Potter County, SD. Archeological Studies Circular No. 9, South Dakota Archaeological Commission, Pierre, South Dakota.)

In 1963, Hoffman speculated that the occupants of Rosa belonged to the Chouteau Aspect of Middle Missouri archaeological culture, which is characterized as a “late prehistoric coalescence of indigenous Middle Missouri and intrusive Central Plains cultures.” A later, protohistoric affiliation is supported by Weakly's 1971 study of tree rings from sites along the Missouri River in South Dakota. His analysis places Rosa's occupation in the mid-to-late 18th century, with one juniper tree specimen providing a date of A.D. 1766. Based on this evidence and a larger regional analysis conducted by Donald Lehmer and published in 1971, Rosa is now widely regarded as a Post-Contact Coalescent village for the ancestors of modern-day Arikara. More recently, Johnson has hypothesized that the Rosa village spawned from the 17th Extended Coalescent occupation at the Sully (39Sl4) site, located downstream in Sully County and below the mouth of the Cheyenne River. Meanwhile, Collison describes the LeBeau and Stanley Ware ceramics from Rosa as characteristic of the A.D. 1700 to 1750 timeframe. In sum, Rosa was an 18th century ancestral Arikara village that existed shortly before the Arikara emigration northward along the Missouri River.

Following their removal, the human remains (a single cranium) were transported to Indiana, where they remained as part of a private collection of Native American antiquities and cultural heritage. In April 2014, the human remains were seized by the FBI as part of a criminal investigation.

The human remains (also known as Individual 144) represent one young-to-middle adult female that, according to the osteology report, “likely died between 30 and 45 years of age.” No known individuals were identified. There were no associated funerary objects. A tag recovered by the FBI with Individual 144 states “Rosa Site- Cache Burial Female-Age 35.” Individual 144 is represented by a well-preserved cranium, mandible and partial dentition with ante- and post-mortem tooth loss. According to the osteology report, bone preservation is very good, and there is no evidence for substantial weathering or taphonomic processes, suggesting that Individual 144 is derived from a late prehistoric, protohistoric or historic burial context.

Based upon the historical record, site analysis, evidence obtained through criminal investigation, osteological analysis, and tribal consultation, the FBI believes that there is a relationship of shared group identity that can be reasonably traced between the Native American human remains and the Three Affiliated Tribes of the Fort Berthold Reservation, North Dakota.

Determinations Made by the Federal Bureau of Investigation

Officials of the FBI have determined that:

• Pursuant to 25 U.S.C. 3001(9), the human remains described in this notice represent the physical remains of one individual of Native American ancestry.

• Pursuant to 25 U.S.C. 3001(2), there is a relationship of shared group identity that can be reasonably traced between the Native American human remains and the Three Affiliated Tribes of the Fort Berthold Reservation, North Dakota.

Additional Requestors and Disposition

Lineal descendants or representatives of any Indian Tribe or Native Hawaiian organization not identified in this notice that wish to request transfer of control of these human remains should submit a written request with information in support of the request to Federal Bureau of Investigation, FBI Headquarters, Attn: Supervisory Special Agent (SSA) Timothy S. Carpenter, Art Theft Program, 935 Pennsylvania Avenue NW, Washington, DC 20535, telephone (202) 324-5525, email artifacts@ic.fbi.gov, by October 10, 2018. After that date, if no additional requestors have come forward, transfer of control of the human remains to the Three Affiliated Tribes of the Fort Berthold Reservation, North Dakota may proceed.

The FBI is responsible for notifying the Cheyenne River Sioux Tribe of the Cheyenne River Reservation, South Dakota; Standing Rock Sioux Tribe of North & South Dakota; and Three Affiliated Tribes of the Fort Berthold Reservation, North Dakota that this notice has been published.

Dated: July 25, 2018.
Melanie O'Brien,
Manager, National NAGPRA Program.

[FR Doc. 2018-19541 Filed 9-7-18; 8:45 am]

BILLING CODE 4312-52-P